DEPARTMENT OF HEALTH AND HUMAN SERVICES

Substance Abuse and Mental Health Services Administration

Notice of Meeting

Pursuant to Public Law 92-463, notice is hereby given that the Substance Abuse and Mental Health Services Administration (SAMHSA) National Advisory Council will meet on August 17-18 at the Omni Hotel at CNN Center, Atlanta, Georgia. The meeting is open to the public.

The SAMHSA National Advisory Council was established to advise the Secretary, Department of Health and Human Services (HHS), and the Administrator, SAMHSA, to reduce the impact of substance abuse and mental illnesses in American communities. The Agenda will include a report from the SAMHSA Administrator, updates on SAMHSA's strategic initiatives, and a panel discussion on health reform and the role of peers and families in behavioral health. In addition, Council members will participate in a listening session on September 18 at the Centers for Disease Control and Prevention's Fourth National Conference on Health Communication, Marketing, and Media.

Attendance by the public will be limited to space available. Public comments are welcome. The meeting can also be accessed via webstream. To obtain the call-in numbers and access codes, to submit written or brief oral comments, or to request special accommodations for persons with disabilities, please register on-line at https://nac.samhsa.gov/Registration/meetingsRegistration.aspx. You may also communicate with the SAMHSA National Advisory Council Designated Federal Officer, Ms. Toian Vaughn (see contact information below).

Substantive program information and a roster of Council members may be obtained either by accessing the SAMHSA Committee Web site, https://nac.samhsa.gov/NACcouncil/index.aspx or by contacting Ms. Vaughn. The transcript for the meeting will be available on the SAMHSA Committee Web site within three weeks after the meeting.

Committee Name: SAMHSA National Advisory Council.

Date/Time/Type: Tuesday, August 17, 2010, from 8:30 a.m. to 5 p.m.: Open. Wednesday, August 18, 2010, from 9 a.m. to 12 noon: Open.

Place: The Omni Hotel at CNN Center, 100 CNN Center, Atlanta, Georgia 30303.

Contact: Toian Vaughn, M.S.W., Designated Federal Official, SAMHSA National Advisory Council and SAMHSA Committee Management Officer, 1 Choke Cherry Road, Room 8-1089, Rockville, Maryland 20857, Telephone: (240) 276-2307; FAX: (240) 276-2220 and E-mail: toian.vaughn@samhsa.hhs.gov.

Dated: July 27, 2010.
Toian Vaughn,
Committee Management Officer, Substance Abuse and Mental Health, Services Administration.

[FR Doc. 2010-18874 Filed 7-30-10; 8:45 am]

BILLING CODE 4162-20-P